DEPARTMENT OF TRANSPORTATION

Federal Aviation Administration

14 CFR Part 65

[Docket No.: FAA-FAA-2014-1000; Amdt. No. 65-56A]

RIN 2120-AK40

Elimination of the Air Traffic Control Tower Operator Certificate for Controllers Who Hold a Federal Aviation Administration Credential With a Tower Rating; Correction

AGENCY: Federal Aviation Administration (FAA), DOT.

ACTION: Final rule; request for comments; correction.

SUMMARY: The FAA is correcting a final rule with request for comments, published on December 16, 2014 (79 FR 74607). In that final rule, the FAA amended its regulations to eliminate the requirement for an air traffic control tower operator to hold a control tower operator certificate if the individual also holds a Federal Aviation Administration Credential with a tower rating (FAA Credential). In that document, the FAA inadvertently made an error in the part heading for 14 CFR part 65. This document corrects that error.

DATES: This correction will become effective on February 17, 2015.

FOR FURTHER INFORMATION CONTACT: For technical questions concerning this action, contact Michele Cappelle, Air Traffic Safety Oversight Service, Federal Aviation Administration, 800 Independence Avenue SW., Washington, DC 20591; telephone (202) 267-5205; email michele.cappelle@faa.gov.

SUPPLEMENTARY INFORMATION:

Background

On December 16, 2014, the FAA published a final rule with request for comments, entitled “Elimination of the Air Traffic Control Tower Operator Certificate for Controllers Who Hold a Federal Aviation Administration Credential with a Tower Rating” (79 FR74607).

In that final rule, the FAA revised the requirement for an air traffic control tower operator to hold a control tower operator certificate if the individual also holds a Federal Aviation Administration Credential with a tower rating (FAA Credential). In that final rule, the FAA inadvertently printed the incorrect part heading for part 65 of Title 14, Code of Federal Regulations.

Correction

In FR Doc. 2014-29386, beginning on page 74611 in the Federal Register of December 16, 2014, make the following correction.

Correction to Regulatory Text

1. On page 74611, in the third column, revise the heading of Part 65 to read as follows:

PART 65—CERTIFICATION: AIRMEN OTHER THAN FLIGHT CREWMEMBERS

* * * * *

Issued under authority provided by 49 U.S.C. 106(f), in Washington, DC, on December 19, 2014.
Brenda D. Courtney,
Acting Director, Office of Rulemaking .

[FR Doc. 2014-30269 Filed 12-24-14; 8:45 am]

BILLING CODE 4910-13-P